SMALL BUSINESS ADMINISTRATION

[Disaster Declaration #12919 and #12920]

Florida Disaster #FL-00066

AGENCY: U.S. Small Business Administration.

ACTION: Notice.

SUMMARY: This is a notice of an Administrative declaration of a disaster for the State of Florida dated 11/14/2011.

Incident: Severe storms and flooding.

Incident Period: 10/28/2011 Through 10/31/2011.

Effective Date: 11/14/2011.

Physical Loan Application Deadline Date: 01/13/2012.

Economic Injury (EIDL) Loan Application Deadline Date: 08/14/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Broward.

Contiguous Counties:

Florida: Collier, Hendry, Miami-Dade, Palm Beach.

The Interest Rates are:

| Percent
For Physical Damage:
Homeowners With Credit Available Elsewhere | 4.125.
Homeowners Without Credit Available Elsewhere | 2.063.
Businesses With Credit Available Elsewhere | 6.000.
Businesses Without Credit Available Elsewhere | 4.000.
Non-Profit Organizations With Credit Available Elsewhere | 3.125.
Non-Profit Organizations Without Credit Available Elsewhere | 3.000.
For Economic Injury:
Businesses & Small Agricultural Cooperatives Without Credit Available Elsewhere | 4.000.
Non-Profit Organizations Without Credit Available Elsewhere | 3.000.

The number assigned to this disaster for physical damage is 12919 B and for economic injury is 12920 0.

The State which received an EIDL Declaration # is Florida.

(Catalog of Federal Domestic Assistance Numbers 59002 and 59008)

Dated: November 14, 2011.
Karen G. Mills,
Administrator.

[FR Doc. 2011-29959 Filed 11-18-11; 8:45 am]

BILLING CODE 8025-01-P